DEPARTMENT OF ENERGY

Chicago Operations Office, Office of Industrial Technologies, Notice of the Chemicals Industry of the Future Solicitation

AGENCY: Chicago Operations Office, DOE.

ACTION: Notice of financial assistance solicitation availability.

SUMMARY: The U.S. Department of Energy (DOE) is announcing its intention to solicit applications for financial assistance for cost shared research and development of technologies that will enhance economic competitiveness, reduce energy consumption and reduce environmental impacts of the U.S. chemical industry. The DOE Office of Industrial Technologies (OIT) seeks industry cost-shared projects involving at least two chemical industry companies per project that address research needs identified in Technology Vision 2020: The U.S. Chemical Industry “vision document” and the subsequent Vision 2020 technology roadmaps. These documents can be found on the OIT web-site located at http://www.oit.doe.gov/chemicals/. DOE is interested in projects that focus on applied research that lead to the development and successful completion of pilot-scale operations. Projects of most interest will be those that demonstrate broad chemical industry applicability, and which will yield large and replicable energy savings.

DATES: The complete solicitation document will be available on or about May 31, 2000. The deadline for submission of applications will be identified in the solicitation and should occur during August, 2000.

ADDRESSES: Copies of the solicitation, when issued, can be obtained from the DOE Chicago Operations Office, Acquisition and Assistance Home Page at http://www.ch.doe.gov/business/ACQ.htm under the heading “current solicitations,” Solicitation No. DE-SC02-00CH11040. Access to this Home Page will also be possible through a hot-link from the OIT Chemicals web-site.

FOR FURTHER INFORMATION CONTACT: John Motz at (630) 252-2152; by mail at U.S. Department of Energy, 9800 South Cass Avenue, Argonne, IL 60439-4899; by facsimile at (630) 252-5045; or by electronic mail at john.motz@ch.doe.gov

SUPPLEMENTARY INFORMATION:

Background

DOE through its Office of Industrial Technologies (OIT) supports industries in their efforts to increase energy efficiency, reduce waste and increase productivity. The goal of OIT is to accelerate the development and use of advanced energy efficient, renewable and pollution prevention technologies that benefit industry, the environment, and U.S. energy security. OIT's core program is the Industries of the Future (IOF) initiative that focuses on basic materials and processing industries such as the chemical industry.

Research and Development Solicitation Topics

Responsive projects will cross-cut several technological and methodological roadmap areas including, but not limited to, catalysis, separations, new process chemistry, reaction engineering, materials of construction, computational fluid dynamics, and computational chemistry. Specific attention should be given to system integration and process operation and control development. The outcome of these projects should be pilot-scale demonstrations that will lead to full-scale demonstration and commercialization of process technology. The technology development project proposed must show a high probability of commercialization beyond a single company. For this reason, the proposers will need to describe the path to commercialization that will impact more than one company's process applications; the technology must show a broad applicability in its proposed configuration or in a similar adaptation to other chemical industry applications.

Type and Number of Anticipated Awards

Awards under this solicitation will be cooperative agreements with a term of up to three years. DOE is planning to allocate approximately $4 million in fiscal year 2001 for the selected projects, subject to the availability of funds. It is estimated that three to six projects will be selected for cost-shared cooperative agreements. Total estimated Government funding for the solicitation is approximately $12 million for the maximum three-year period, subject to the availability of funds.

Application Requirements

The projects must include teams that comprise multi-disciplinary expertise from corporate research, process engineering, technology development groups or companies, and new business development organizations within and outside chemical companies. Applications that do not propose a teaming arrangement of at least two chemical industry companies will not be evaluated. Teams shall be led by chemical companies, but may include partners from chemical product/raw material suppliers, chemical customers, equipment suppliers, engineering firms, software and consulting firms, universities, National Laboratories, and research institutes.

Applicants will be required to cost share a minimum of 50% of the total project costs to be incurred under the proposed project to be eligible for award under this solicitation.

In addition to the foregoing, other evaluation and selection criteria will be developed in accordance with 10 CFR 600.10—Form and Content of Applications and 10 CFR 600.13—Merit Review.

Issued in Argonne, Illinois on April 11, 2000.
John D. Greenwood,
Acquisition and Assistance Group Manager

[FR Doc. 00-9982 Filed 4-20-00; 8:45 am]

BILLING CODE 6450-01-P